DEPARTMENT OF ENERGY

Federal Energy Regulatory Commission

[Project No. P-14249-000]

KC Hydro LLC of New Hampshire; Notice of Preliminary Permit Application Accepted for Filing and Soliciting Comments, Motions To Intervene, and Competing Applications

On August 8, 2011, KC Hydro LLC of New Hampshire, filed an application for a preliminary permit, pursuant to section 4(f) of the Federal Power Act (FPA), proposing to study the feasibility of the Lebanon Mascoma River Hydropower Project (project) to be located on the Mascoma River, near the Town of Lebanon, Grafton County, New Hampshire. The sole purpose of a preliminary permit, if issued, is to grant the permit holder priority to file a license application during the permit term. A preliminary permit does not authorize the permit holder to perform any land-disturbing activities or otherwise enter upon lands or waters owned by others without the owners' express permission.

The proposed project would consist of two developments with an installed capacity of 1.2 megawatts (MW) and an average annual generation of 5,000 megawatt-hours which would be sold to Public Service of New Hampshire. The two developments include:

Mascoma Lake Dam Development

The proposed Mascoma Lake Dam Development consists of: (1) The existing 575-foot-long, 18-foot-high, concrete gravity Mascoma Lake Dam equipped with a 125-foot-long spillway, four 6-foot-wide outlet gates, and seven 35-foot-wide stoplog bays; (2) an existing 1,155-acre impoundment with a normal maximum pool elevation of 750 feet National Geodetic Vertical Datum; (3) a new 80-foot-long, 20 to 30-foot-wide power canal located below the existing outlet works; (4) a minimum flow turbine generator and a new 2,000-square-foot powerhouse containing one or two submersible or tubular-type turbine generators with a total installed capacity of 0.36 MW; (5) a new 150-foot-long tailrace; (6) a new 700-foot-long, 4.16-kilovolt (kV) transmission line; and (7) appurtenant facilities.

Riverside Dam Development

The proposed Riverside Dam Development consists of: (1) Reconstructing a 125-foot-long, 7-foot-high dam with 2-foot-high flashboards and impounding; (2) a new 0.25-acre impoundment with a normal maximum pool elevation of 541.5 feet mean sea level; (3) a new 470-foot-long, 7.5-foot-diameter steel penstock; (4) a new 1,800-square-foot powerhouse containing a single inclined shaft Kaplan turbine-generating unit with a total installed capacity of 0.84 MW; (5) a new 135-foot-long transmission line; and (6) appurtenant facilities.

Applicant Contact: Ms. Kelly Sackheim, Principal, KC Hydro LLC of New Hampshire, 5096 Cocoa Palm Way, Fair Oaks, California 95628; phone: (301) 401-5978.

FERC Contact: Michael Watts; phone: (202) 502-6123.

Deadline for filing comments, motions to intervene, competing applications (without notices of intent), or notices of intent to file competing applications: 60 days from the issuance of this notice. Competing applications and notices of intent must meet the requirements of 18 CFR 4.36. Comments, motions to intervene, notices of intent, and competing applications may be filed electronically via the Internet. See 18 CFR 385.2001(a)(1)(iii) and the instructions on the Commission's Web site http://www.ferc.gov/docs-filing/efiling.asp. Commenters can submit brief comments up to 6,000 characters, without prior registration, using the eComment system at http://www.ferc.gov/docs-filing/ecomment.asp. You must include your name and contact information at the end of your comments. For assistance, please contact FERC Online Support at FERCOnlineSupport@ferc.gov or toll free at 1-(866) 208-3676, or for TTY, (202) 502-8659. Although the Commission strongly encourages electronic filing, documents may also be paper-filed. To paper-file, mail an original and seven copies to: Kimberly D. Bose, Secretary, Federal Energy Regulatory Commission, 888 First Street NE., Washington, DC 20426.

More information about this project, including a copy of the application, can be viewed or printed on the “eLibrary” link of Commission's Web site at http://www.ferc.gov/docs-filing/elibrary.asp. Enter the docket number (P-14249-000) in the docket number field to access the document. For assistance, contact FERC Online Support.

Dated: November 10, 2011.
Kimberly D. Bose,
Secretary.

[FR Doc. 2011-29930 Filed 11-18-11; 8:45 am]

BILLING CODE 6717-01-P